OFFICE OF PERSONNEL MANAGEMENT

2006 Nonforeign Area Cost-of-Living Allowance Survey Report: Alaska and Washington, DC, Areas

Correction

In notice document E7-25297 beginning on page 774 in the issue of Thursday, January 3, 2008 make the following correction:

On page 805, in Appendix 7, under the heading “PEG index”, in the 17th line, “102.07” should be moved to the 17th line under the heading “MEG index”.

[FR Doc. Z7-25297 Filed 1-11-08; 8:45 am]

BILLING CODE 1505-01-D